DEPARTMENT OF TRANSPORTATION

Federal Aviation Administration

14 CFR Part 71

[Docket No. FAA-2009-0885; Airspace Docket No. 09-ASO-17]

Revision of Area Navigation (RNAV) Route Q-108; Florida

AGENCY: Federal Aviation Administration (FAA), DOT.

ACTION: Final rule, correction.

SUMMARY: This action corrects an error in the legal description for RNAV route Q-108 that was published in the Federal Register on Friday, December 11, 2009, Airspace Docket No. 09-ASO-17.

DATES: Effective date 0901 UTC, February 11, 2010.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On December 11, 2009, a final rule was published in the Federal Register (74 FR 65687), Airspace Docket No. 09-ASO-17. This rule revised Area Navigation (RNAV) Route Q-108 in northern Florida by realigning the route structure. In the legal description, the function of the four points that make up the route as a “waypoint” (WP) or “fix” was inadvertently omitted. This correction adds “WP” to GADAY, IZZEY and FRNKS, and “fix” to HKUNA. Area Navigation Q Routes are published in paragraph 2006 of FAA Order 7400.9T signed August 27, 2009, and effective September 15, 2009, which is incorporated by reference in 14 CFR 71.1.

Accordingly, pursuant to the authority delegated to me, the legal description for RNAV Route Q-108, as published in the Federal Register December 11, 2009 (74 FR 65687), page 65688, beginning in column 1, is corrected as follows:

§ 71.1 [Amended]

* * * * *

Q-108 GADAY to HKUNA [Corrected]

By adding ‘WP’ after GADAY, IZZEY, and FRNKS; and adding ‘fix’ after HKUNA.

Issued in Washington, DC, on January 27, 2010.
Kelly Neubecker,
Acting Manager, Airspace and Rules Group.

[FR Doc. 2010-2467 Filed 2-5-10; 8:45 am]

BILLING CODE 4910-13-P